FEDERAL COMMUNICATIONS COMMISSION

47 CFR Part 12

[PS Docket No. 14-174, FCC 15-98]

Ensuring Continuity of 911 Communications

AGENCY: Federal Communications Commission.

ACTION: Final rule; announcement of effective date.

SUMMARY: In this document, the Commission announces that the Office of Management and Budget (OMB) has approved, for a period of three years, the information collection associated with the Commission's Ensuring Continuity of 911 Communications Report and Order's (Order) consumer disclosure requirement. This document is consistent with the Order, which stated that the Commission would publish a document in the Federal Register announcing the effective date of those rules.

DATES: Effective date: The amendments to 47 CFR 12.5(d), published at 80 FR 62470, October 16, 2015 are effective August 5, 2016.

Compliance date: For providers with fewer than 100,000 domestic retail subscriber lines, April 1, 2017.

FOR FURTHER INFORMATION CONTACT: Linda M. Pintro, Policy and Licensing Division, Public Safety and Homeland Security Bureau, at (202) 418-7490, or email: linda.pintro@fcc.gov.

SUPPLEMENTARY INFORMATION: This document announces that, on March 21, 2016, OMB approved, for a period of three years, the information collection requirements relating to the subscriber notification rules contained in the Commission's Order, FCC 15-98, published at 80 FR 62470, October 16, 2015. The OMB Control Number is 3060-1217. The Commission publishes this document as an announcement of the effective date of the rules. If you have any comments on the burden estimates listed below, or how the Commission can improve the collections and reduce any burdens caused thereby, please contact Nicole Ongele, Federal Communications, Room 1-A620, 445 12th Street SW., Washington, DC 20554. Please include the OMB Control Number, 3060-1217, in your correspondence. The Commission will also accept your comments via email at PRA@FCC.GOV. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 21, 2016, for the information collection requirements contained in the modifications to the Commission's rules in 47 CFR part 12.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1217.

The foregoing notice is required by the Paperwork Reduction Act of 1995, Pub. L. 104-13, October 1, 1995, and 44 U.S.C. 3507.

The total annual reporting burdens and costs for the respondents are as follows:

OMB Control Number: 3060-1217.

OMB Approval Date: March 21, 2016.

OMB Expiration Date: March 31, 2019.

Title: Ensuring Continuity of 911 Communications Report and Order (PS Docket No. 14-174, FCC 15-98).

Form Number: N/A.

Respondents: Business or other for-profit entities.

Number of Respondents and Responses: 570 respondents; 570 responses.

Estimated Time per Response: Estimated time per respondent will vary widely by respondent because of differences in their current level of backup power provisioning. Some respondents may not need to expend any resources to comply with the third party disclosure requirement, because they are already providing the service. Others may have to build the service from the ground up. And, still others may currently be providing some, but not all of the required disclosure. Consequently, a respondent may spend zero to 70 hours per initial notification.

Frequency of Response: Respondents are required to disclose the information to subscribers at the point of sale and annually thereafter.

Obligation to Respond: Required to obtain or retain benefits. Statutory authority for this information collection is contained in sections 1, 4(i), and 251(e)(3) of the Communications Act of 1934, as amended, 47 U.S.C. 151, 154(i), 251(e)(3); section 101 of the NET 911 Improvement Act of 2008, Public Law 110-283, 47 U.S.C. 615a-1; and section 106 of the Twenty-First Century Communications and Video Accessibility Act of 2010, Pub. L. 111-260, 47 U.S.C. 615c.

Total Annual Burden: 1,888 hours.

Total Annual Cost: No cost.

Nature and Extent of Confidentiality: An assurance of confidentiality is not offered because this information collection does not require the collection of personally identifiable information (PII) from individuals.

Privacy Act: No impact(s).

Needs and Uses: For over one hundred years, consumers have trusted that they will hear a dial tone in an emergency even when the power is out. Now, as networks transition away from copper-based, line-powered technology, many are aware of the innovation this transition has spurred in emergency services, but many consumers remain unaware that they must take action to ensure that dial tone's availability in the event of a commercial power outage. The vital importance of the continuity of 911 communications, and the Commission's duty to promote safety of life and property through the use of wire and radio communication, favor action to ensure that all consumers understand the risks associated with non-line-powered 911 service, know how to protect themselves from such risks, and have a meaningful opportunity to do so. Accordingly, on August 6, 2015, the Commission adopted the Order to promote continued access to 911 during commercial power outages, by requiring providers of facilities-based, fixed residential voice services that are not line powered to offer subscribers the option to purchase a backup power solution capable of 8 hours of standby power, and within three years, an additional solution capable of 24 hours of backup power. The Order also promotes consumer education and choice by requiring covered providers to disclose to subscribers, information about: (a) Availability of backup power sources; (b) service limitations with and without backup power during a power outage; (c) purchase and replacement options; (d) expected backup power duration; (c) proper usage and storage conditions for the backup power source; (e) subscriber backup power self-testing and monitoring instructions; and (f) backup power warranty details, if any.

Federal Communications Commission.
Marlene H. Dortch,
Secretary.

[FR Doc. 2016-07845 Filed 4-6-16; 8:45 am]

BILLING CODE 6712-01-P